DEPARTMENT OF VETERANS AFFAIRS

Advisory Committee on Homeless Veterans, Notice of Meeting

The Department of Veterans Affairs (VA) gives notice under Public Law 92-463 (Federal Advisory Committee Act) that a meeting of the Advisory Committee on Homeless Veterans will be held from Monday, March 22, 2004, through Wednesday, March 24, 2004, in the McPherson Square Room of the Hamilton Crowne Plaza, 14th & K Streets, NW., Washington, DC 20005. On March 22, the session will convene at 10 a.m. and end at 4 p.m. On March 23-24, the sessions will convene at 8 a.m. and end at 4 p.m. on March 23 and at 12 Noon on March 24. The meeting is open to the public.

The purpose of the Committee is to provide the Secretary of Veterans Affairs with an on-going assessment of the effectiveness of the policies, organizational structures, and services of the Department in assisting homeless veterans. The Committee shall assemble and review information relating to the needs of homeless veterans and provide on-going advice on the most appropriate means of providing assistance to homeless veterans. The Committee will make recommendations to the Secretary regarding such activities.

On March 22, the Committee will receive reports and information requested by the Committee from its 2003 Annual Report, from governmental and outside entities. On March 23, the Committee will continue to receive reports and begin preparation of its upcoming annual report and recommendations to the Secretary. On March 24, the Committee will continue preparation of its report.

Those wishing to attend the meeting should contact Mr. Pete Dougherty, Department of Veterans Affairs, at (202) 273-5764. No time will be allocated for receiving oral presentations from the public. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: February 11, 2004.
By Direction of the Secretary.
E. Philip Riggin,
Committee Management Officer.

[FR Doc. 04-3855 Filed 2-20-04; 8:45 am]

BILLING CODE 8320-01-M